DEPARTMENT OF HEALTH AND HUMAN SERVICES

Office of the Secretary

Agency Information Collection Activities; Proposed Collections; Comment Request

The Department of Health and Human Services, Office of the Secretary will periodically publish summaries of proposed information collections projects and solicit public comments in compliance with the requirements of Section 3506(c)(2)(A) of the Paperwork Reduction Act of 1995. To request more information on the project or to obtain a copy of the information collection plans and instruments, call the OS Reports Clearance Office at (202) 619-2118 or e-mail Geerie.Jones@HHS.gov.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Proposed Project: Incidence of Received Research Misconduct in Biomedical Research—NEW—As required by Section 493 of the Public Health Service Act, the Secretary by regulation shall require that applicant and institution receiving PHS funds must investigate and report instances of alleged or apparent misconduct in science. The purpose of this study is to produce a reliable estimate of the incidence of search misconduct and initiate a longitudinal database for measuring changes and evaluating federal and institutional efforts to prevent research misconduct and promote research integrity. Respondents: Not-for-profit Institutions—Number of Respondents: 3,000; Burden per Response: 20 minutes; Total Burden: 1,000 hours.

Send comments via e-mail to Geerie.Jones@HHS.gov or mail to OS Reports Clearance Office, Room 503H, Huber H. Humphrey Building, 200 Independence Avenue, SW., Washington, DC 20201. Comments should be received within 60 days of this notice.

Dated: September 12, 2002.
Kerry Weems,
Deputy Assistant Secretary, Budget.

[FR Doc. 02-25403 Filed 10-4-02; 8:45 am]

BILLING CODE 4150-31-M